DEPARTMENT OF COMMERCE

National Oceanic and Atmospheric Administration

[I.D. 051905A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for an EFP to conduct experimental fishing; request for comments.

SUMMARY: NMFS announces that the Assistant Regional Administrator for Sustainable Fisheries, Northeast Region, NMFS (Assistant Regional Administrator) proposes to recommend that an EFP be issued in response to an application submitted by the Cornell Cooperative Extension of Suffolk County (Cornell). The EFP would allow one commercial fishing vessel to conduct a study examining vent sizes in black sea bass pots from approximately June 1, 2005, through May 31, 2006. The Assistant Regional Administrator has made a preliminary determination that the application contains all of the required information and warrants further consideration and that the activities to be authorized under the EFP would be consistent with the goals and objectives of the Summer Flounder, Scup, and Black Sea Bass Fishery Management Plan. However, further review and consultation may be necessary before a final determination is made to issue an EFP.

DATES: Comments on this action must be received on or before June 8, 2005.

ADDRESSES: Comments on this notice may be submitted by e-mail. The mailbox address for providing e-mail comments is DA5-127@noaa.gov. Include in the subject line of the e-mail comment the following document identifier: “Comments on Cornell Black Sea Bass Escape Vent EFP Proposal.” Written comments should be sent to Patricia A. Kurkul, Regional Administrator, NMFS, NE Regional Office, 1 Blackburn Drive, Gloucester, MA 01930. Mark the outside of the envelope “Comments on Cornell Black Sea Bass Escape Vent EFP Proposal.” Comments may also be sent via fax to (978) 281-9135.

FOR FURTHER INFORMATION CONTACT: Jason Blackburn, Fishery Management Specialist, phone: 978-281-9326, fax: 978-281-9135.

SUPPLEMENTARY INFORMATION: On March 24, 2005, Cornell submitted an application for a continuation of their study of the effects of vent size and shape on black sea bass behavior and escapement from pot gear. The applicant has submitted a new EFP request for a continuation of the study they began in 2004. During 2004, the project conducted Research Set-Aside compensation trips to fund the research. The new EFP would allow the applicant to conduct the research portion of their project. The EFP would allow exemption from the Northeast (NE) lobster trap and tagging requirements at 50 CFR 697.19(a) and (c), the black sea bass gear restrictions for pot and trap gear (escape vent and marking) at § 648.144(b), and the black sea bass minimum size restrictions at § 648.143.

The exempted fishing activity involves research fishing in Federal waters. The sea trials would be conducted in the waters surrounding Long Island, New York, including the Atlantic Ocean, Block Island Sound, and Long Island Sound, from approximately June 1, 2005, through May 31, 2006. The sampling protocol lists the following vent sizes and configurations to be used in this study: Double circular 2.5-inch (6.4-cm) diameter (presently the standard size in the black sea bass fishery and the regulatory size for lobster in Lobster Management Area (LMA) 4); 5.75-inch (14.61-cm) by 2.0-inch (5.1-cm) rectangular (current regulatory size for lobster); double circular 2.625-inch (6.668-cm) diameter (required in the lobster fishery as of January 1, 2005, in all areas except LMA 1 and 6); single circular 2.375-inch (6.033-cm) diameter (current regulatory size for black sea bass); 2.0-inch (5.1-cm) square (current regulatory size for black sea bass). Vents would be placed in a side panel near the bottom of the pot. The pots would be set in blocks of six (five experimental, one control) with two blocks to a string. Ten strings would be hauled every 10 days. One additional string would be hauled every 40 days to estimate mortality. One federally permitted commercial fishing vessel would be used to conduct the research fishing trips.

It is estimated that 5,000 pounds of black sea bass and 500 pounds of lobster would be landed. It is further estimated that 1,000 pounds of black sea bass, 500 pounds of scup, and 200 pounds of lobster would be discarded. All bycatch would be released alive whenever possible. Sub-legal sized black sea bass would be retained in onboard live tanks for length frequency measurement and then released as soon as practicable. Fish would be landed in New York. Scientists from Cornell would be onboard during all research trips.

An EFP would be issued to one federally permitted commercial black sea bass vessel to exempt it from the regulations noted above. Exemption from the lobster and black sea bass trap requirements would allow the project to use pots in excess of the regulated pot limit while conducting the study. Exemption from the black sea bass minimum size restrictions would allow the vessels to temporarily retain sub-legal sized black sea bass to obtain length frequency measurements while conducting the study.

The applicant may request minor modifications and extensions to the EFP throughout the year. EFP modifications and extensions may be granted without further notice if they are deemed essential to facilitate completion of the proposed research and have minimal impacts that do not change the scope or impact of the initially approved EFP request.

Regulations under the Magnuson-Stevens Fishery Conservation and Management Act require publication of this notification to provide interested parties the opportunity to comment on applications for proposed EFPs.

Authority: 16 U.S.C. 1801 et seq.

Dated: May 19, 2005.
Alan D. Risenhoover,
Acting Director, Office of Sustainable Fisheries, National Marine Fisheries Service.

[FR Doc. E5-2589 Filed 5-23-05; 8:45 am]

BILLING CODE 3510-22-S